DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were collected from Morton and Oliver Counties, ND, and Hughes County, SD.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by American Museum of Natural History professional staff in consultation with representatives of the Three Affiliated Tribes of the Fort Berthold Reservation, North Dakota.

Prior to 1877, human remains representing a minimum of one individual were collected from a village site, Fort Lincoln, Morton County, ND, on the Missouri River. The human remains were collected by an unknown person. It is unclear how the museum received the remains. No known individual was identified. No associated funerary objects are present.

The individual has been identified as Native American based on museum documentation that describes the remains as “Hidatsa?” The human remains have not been dated, but originated from an area occupied during the early postcontact period by the Mandan people, who are now part of the Three Affiliated Tribes of the Fort Berthold Reservation, North Dakota. Given the description of their geographic origin, the human remains may have come from On-a-Slant Village, a Mandan settlement abandoned in 1781.

In 1916, human remains representing a minimum of one individual were collected from Old Fort Clark in Oliver County, ND, by Rev. Gilbert L. Wilson. The American Museum of Natural History purchased the human remains from Rev. Wilson in 1917. No known individual was identified. No associated funerary objects are present.

The individual has been identified as Native American based on geographic origin. The location of the human remains is consistent with the postcontact territory of the Three Affiliated Tribes of the Fort Berthold Reservation, North Dakota. In 1827, most of the Arikara and some of the Mandan people settled near Fort Clark. An Arikara cemetery is present at Fort Clark. Based on the association of the human remains with historic Fort Clark, the remains are most likely postcontact.

In 1939, human remains representing a minimum of six individuals were collected from the Arzberger site, Hughes County, SD, by Columbia University. The American Museum of Natural History acquired the human remains as a gift from Columbia University in 1964. No known individuals were identified. No associated funerary objects are present.

The individuals have been identified as Native American based on geographic origin, mortuary practices, and catalog records. The catalog indicates the remains are “probably Arikara.” Flexed inhumations on elevated land forms immediately outside villages are consistent with late precontact and postcontact Arikara mortuary practices.

Officials of the American Museum of Natural History have determined that, pursuant to 25 U.S.C. 3001 (9-10), the human remains described above represent the physical remains of eight individuals of Native American ancestry. Officials of the American Museum of Natural History also have determined that, pursuant to 25 U.S.C. 3001 (2), there is a relationship of shared group identity that can be reasonably traced between the Native American human remains and the Three Affiliated Tribes of the Fort Berthold Reservation, North Dakota.

Representatives of any other Indian tribe that believes itself to be culturally affiliated with the human remains should contact Nell Murphy, Director of Cultural Resources, American Museum of Natural History, Central Park West at 79th Street, New York, NY 10024-5192, telephone (212) 769-5837, before May 31, 2006. Repatriation of the human remains to the Three Affiliated Tribes of the Fort Berthold Reservation, North Dakota may proceed after that date if no additional claimants come forward.

The American Museum of Natural History is responsible for notifying the Three Affiliated Tribes of the Fort Berthold Reservation, North Dakota that this notice has been published.

Dated: March 24, 2006.
Sherry Hutt,
Manager, National NAGPRA Program.

[FR Doc. 06-4047 Filed 4-28-06; 8:45 am]

BILLING CODE 4312-50-S